DEPARTMENT OF COMMERCE

Foreign-Trade Zones Board

[S-134-2016]

Foreign-Trade Zone 73—Baltimore, Maryland, Area; Application for Subzone; Jos. A. Bank Manufacturing Company; Hampstead and Eldersburg, Maryland

An application has been submitted to the Foreign-Trade Zones (FTZ) Board by the Maryland Aviation Administration, on behalf of the Maryland Department of Transportation, grantee of FTZ 73, requesting subzone status for the facilities of Jos. A. Bank Manufacturing Company, located in Hampstead and Eldersburg, Maryland. The application was submitted pursuant to the provisions of the Foreign-Trade Zones Act, as amended (19 U.S.C. 81a-81u), and the regulations of the FTZ Board (15 CFR part 400). It was formally docketed on October 13, 2016.

The proposed subzone would consist of the following sites: Site 1 (38.5 acres) 500 Hanover Pike, Hampstead; Site 2 (13.5 acres) 626 Hanover Pike, Hampstead; and, Site 3 (3.2 acres) 1332 Londontown Blvd., Eldersburg. The proposed subzone would be subject to the existing activation limit of FTZ 73. No authorization for production activity has been requested at this time.

In accordance with the FTZ Board's regulations, Kathleen Boyce of the FTZ Staff is designated examiner to review the application and make recommendations to the Executive Secretary.

Public comment is invited from interested parties. Submissions shall be addressed to the FTZ Board's Executive Secretary at the address below. The closing period for their receipt is November 28, 2016. Rebuttal comments in response to material submitted during the foregoing period may be submitted during the subsequent 15-day period to December 13, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: October 13, 2016.
Andrew McGilvray,
Executive Secretary.

[FR Doc. 2016-25311 Filed 10-18-16; 8:45 am]

BILLING CODE 3510-DS-P